DEPARTMENT OF JUSTICE

[OMB Number 1117-0063]

Agency Information Collection Activities; Proposed eCollection eComments Requested; Extension of a Previously Approved Collection; Drug Use Statement

AGENCY: Drug Enforcement Administration, Department of Justice.

ACTION: 60-Day notice.

SUMMARY: The Drug Enforcement Administration, Department of Justice (DOJ), will be submitting the following information collection request to the Office of Management and Budget (OMB) for review and approval in accordance with the Paperwork Reduction Act of 1995.

DATES: Comments are encouraged and will be accepted for 60 days until January 23, 2026.

FOR FURTHER INFORMATION CONTACT: If you have additional comments especially on the estimated public burden or associated response time, suggestions, or need a copy of the proposed information collection instrument with instructions or additional information, please contact Benjamin Inks, Writer/Editor, Office of Compliance, Policy Administration Section 700 Army Navy Drive Arlington VA 22202, telephone: 571-672-4524, email: Benjamin.B.Inks@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Drug Enforcement Administration (DEA) is a federal law enforcement agency charged with enforcing the controlled substances laws and regulations of the United States. Its principal responsibilities include investigation and prosecution of major violators of controlled substances laws.

Because of the nature of DEA's mission, and its status as a law enforcement agency, past use of illegal drugs by potential employees presents special concerns, and therefore the agency evaluates a job applicant's illegal drug use and abuse during the application process. Executive Order 12564 is supported in the DEA Pre-Employment Drug Policy that a history of illegal drug use or abuse may be a disqualification for employment with DEA.

This amended form notifies job applicants of the DEA Pre-Employment Drug Policy and asks them to acknowledge their understanding of those requirements to move forward in the employment process.

Overview of This Information Collection

1. Type of Information Collection: Revision.

2. The Title of the Form/Collection: Drug Enforcement Administration Pre-Employment Drug Policy Notification and Acknowledgement.

3. The agency form number, if any, and the applicable component of the Department sponsoring the collection: Form number: DEA-200. The sponsoring component is the Drug Enforcement Administration.

4. Affected public who will be asked or required to respond, as well as the obligation to respond: DEA job applicants are asked to complete the form. While not mandatory, an applicant can be disqualified in the hiring process for failing to provide the requested acknowledgement.

5. An estimate of the total number of respondents and the amount of time estimated for an average respondent to respond: The total or estimated number of respondents for the DEA-200 is 4727. The time per response is 7 minutes.

6. An estimate of the total annual burden (in hours) associated with the collection: The total annual burden hours for this collection is 551 hours.

7. An estimate of the total annual cost burden associated with the collection, if applicable: $0.

If additional information is required contact: Darwin Arceo, Department Clearance Officer, United States Department of Justice, Justice Management Division, Enterprise Portfolio Management, Two Constitution Square, 145 N Street, NE, 4W-218, Washington, DC.

Dated: November 19, 2025.
Darwin Arceo,
Department Clearance Officer for PRA, U.S. Department of Justice.

[FR Doc. 2025-20665 Filed 11-21-25; 8:45 am]

BILLING CODE 4410-09-P